DEPARTMENT OF COMMERCE

International Trade Administration

[A-570-947]

Certain Steel Grating From the People's Republic of China: Final Results of the 2014-2015 Antidumping Administrative Review

AGENCY: Enforcement and Compliance, International Trade Administration, Department of Commerce

SUMMARY: On April 13, 2016, the Department of Commerce (“Department”) published its Preliminary Results for the July 1, 2014, through June 30, 2015, administrative review of certain steel grating (“steel grating”) from the People's Republic of China (“PRC”).¹ Although invited to do so, interested parties did not comment on our Preliminary Results. We have adopted the Preliminary Results as the final results.

¹ See Certain Steel Grating From the People's Republic of China: Preliminary Results of Antidumping Administrative Review and Preliminary Determination of No Shipments; 2014-2015, 81 FR 21843 (April 13, 2016) (“Preliminary Results”).

DATES: Effective August 5, 2016.

FOR FURTHER INFORMATION CONTACT: Lilit Astvatsatrian, AD/CVD Operations, Office IV, Enforcement & Compliance, International Trade Administration, U.S. Department of Commerce, 14th Street and Constitution Avenue NW., Washington, DC 20230; telephone: (202) 482-6412.

Background

On April 13, 2016, the Department published its Preliminary Results of the review of the antidumping duty order on steel grating from the PRC for Ningbo Haitian International Co., Ltd. (“Ningbo Haitian”) and Yantai Xinke Steel Structure Co., Ltd. (“Yantai Xinke”) covering the period July 1, 2014, through June 30, 2015 (the period of review (“POR”)). No parties commented on the Preliminary Results.

Scope of the Order

The products covered by this order are certain steel grating, consisting of two or more pieces of steel, including load-bearing pieces and cross pieces, joined by any assembly process, regardless of: (1) Size or shape; (2) method of manufacture; (3) metallurgy (carbon, alloy, or stainless); (4) the profile of the bars; and (5) whether or not they are galvanized, painted, coated, clad or plated. Steel grating is also commonly referred to as “bar grating,” although the components may consist of steel other than bars, such as hot-rolled sheet, plate, or wire rod.

The scope of this order excludes expanded metal grating, which is comprised of a single piece or coil of sheet or thin plate steel that has been slit and expanded, and does not involve welding or joining of multiple pieces of steel. The scope of this order also excludes plank type safety grating which is comprised of a single piece or coil of sheet or thin plate steel, typically in thickness of 10 to 18 gauge, that has been pierced and cold formed, and does not involve welding or joining of multiple pieces of steel.

Certain steel grating that is the subject of this order is currently classifiable in the Harmonized Tariff Schedule of the United States (“HTSUS”) under subheading 7308.90.7000. While the HTSUS subheading is provided for convenience and customs purposes, the written description of the scope of this order is dispositive.

Analysis

In the Preliminary Results, the Department determined that Ningbo Haitian was not eligible for separate rate status and was therefore part of the PRC-wide entity and that Yantai Xinke did not have reviewable transactions during the POR.² No parties commented on the Preliminary Results. Therefore, for these final results of review, we have continued to treat Ningbo Haitian as part of the PRC-wide entity and continued to find that Yantai Xinke did not have reviewable transactions during the POR. We are adopting the Preliminary Decision Memorandum for these final results of review.³ The Preliminary Decision Memorandum is a public document and is on file electronically via Enforcement and Compliance's Antidumping and Countervailing Duty Centralized Electronic Service System (“ACCESS”). ACCESS is available to registered users at http://access.trade.gov and in the Central Records Unit, Room B8024 of the main Department of Commerce building. In addition, a complete version of the Preliminary Results Decision Memorandum can be accessed directly on the Internet at http://enforcement.trade.gov/frn/index.html. The signed and the electronic versions of the Preliminary Decision Memorandum are identical in content.

² See Preliminary Results, at 21845.

³ See Decision Memorandum for Preliminary Results of Antidumping Duty Administrative Review of Certain Steel Grating from the People's Republic of China (“Preliminary Decision Memorandum”), from Christian Marsh, Deputy Assistant Secretary for Antidumping and Countervailing Duty Operations to Ronald K. Lorentzen, Acting Assistant Secretary for Enforcement and Compliance.

Assessment Rates

Upon issuance of the final results, the Department will determine, and U.S. Customs and Border Protection (“CBP”) shall assess, antidumping duties on all appropriate entries covered by this review. The Department intends to issue assessment instructions to CBP 15 days after the publication date of the final results of this review. The Department intends to instruct CBP to liquidate any entries of subject merchandise from Ningbo Haitian at 145.18 percent (the PRC-wide rate).

Additionally, pursuant to the Department's practice in non-market economy cases, given that we have continued to find that Yantai Xinke had no shipments of subject merchandise during the POR, any suspended entries of subject merchandise from Yantai Xinke will be liquidated at the PRC-wide rate.⁴

⁴ For a full discussion of this practice, see NME AD Assessment, 76 FR 65694 (October 24, 2011).

Cash Deposit Requirements

The following cash deposit requirements will be effective upon publication of the final results of this administrative review for all shipments of the subject merchandise entered, or withdrawn from warehouse, for consumption on or after the publication date of the final results of review, as provided by section 751(a)(2)(C) of the Act: (1) For previously investigated or reviewed PRC and non-PRC exporters, which are not under review in this segment of the proceeding, but which have separate rates, the cash deposit rate will continue to be the exporter-specific rate published for the most recent period; (2) for all PRC exporters of subject merchandise that have not been found to be entitled to a separate rate, including Ningbo Haitian, the cash deposit rate will be the PRC-wide rate of 145.18 percent; and (3) for all non-PRC exporters of subject merchandise, which have not received their own rate, the cash deposit rate will be the rate applicable to the PRC exporter(s) that supplied that non-PRC exporter. These deposit requirements, when imposed, shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice of the final results of this antidumping duty administrative review is issued and published in accordance with sections 751(a)(1) and 777(i) of the Act and 19 CFR 351.213 and 19 CFR 351.221(b)(5).

Dated: July 27, 2016.
Ronald K. Lorentzen,
Acting Assistant Secretary for Enforcement and Compliance.

[FR Doc. 2016-18541 Filed 8-4-16; 8:45 am]

BILLING CODE 3510-DS-P